DEPARTMENT OF HOMELAND SECURITY

Coast Guard

[Docket No. USCG-2009-0553]

Material Safety Data Sheet Requirement in the International Convention for the Safety of Life at Sea

AGENCY: Coast Guard, DHS.

ACTION: Notice of effective date.

SUMMARY: In the interest of providing seafarers with clear, concise, and accurate information on the health effects of certain toxic substances, the International Maritime Organization (IMO) recently amended the International Convention for the Safety of Life at Sea (SOLAS), 1974, to require Material Safety Data Sheets (MSDSs) for ships carrying oil or oil fuel as defined in regulation 1 of Annex I of the International Convention for the Prevention of Pollution from Ships, 1973, as modified by the Protocol of 1978 relating thereto (MARPOL). Once accepted by member States in accordance with Article VIII of SOLAS, and effective January 1, 2011, SOLAS will require that each ship subject to SOLAS and carrying oil or oil fuel as defined in MARPOL must be provided with MSDSs prior to loading such oil as cargo in bulk or oil fuel. Additionally, the IMO has recommended a format and content for the MSDSs, and that recommendation becomes effective July 1, 2009; the Coast Guard encourages this recommended format, which is set out below.

DATES: If accepted in accordance with the Convention, the SOLAS requirement that vessels be provided with MSDSs will become effective on January 1, 2011. The recommended IMO content and format for MSDS was approved effective July 1, 2009.

FOR FURTHER INFORMATION CONTACT: If you have questions on this notice, call or e-mail Dr. Alan L. Schneider, CG-5223, Coast Guard, telephone 202-372-1421, e-mail alan.l.schneider@uscg.mil. If you have questions on viewing the docket, call Renee V. Wright, Program Manager, Docket Operations, telephone 202-366-9826.

SUPPLEMENTARY INFORMATION:

IMO Requirement That MSDSs Be Provided

In October of 2007, IMO adopted amendments to SOLAS chapter VI, inserting a new regulation 5-1 to read as follows:

Ships carrying oil or oil fuel, as defined in regulation 1 of Annex 1 of the International Convention for the Prevention of Pollution from Ships, 1973, as modified by the Protocol of 1978 relating thereto, shall be provided with Material Safety Data Sheets, based on the recommendations developed by the Organization,* prior to the loading of such oil as cargo in bulk or bunkering of oil fuel.

* Refer to the Recommendation for material safety data sheets (MSDS) for MARPOL Annex I cargoes and marine fuel oils, adopted by the Organization by resolution MSC.150(77), as may be amended.

The term “Annex I cargoes” refers to those oil cargoes included in Annex I (oils and oil products) of MARPOL; the term does not refer to chemicals.

The 2007 amendment created an anomaly in the application of SOLAS requirements. In June 2009, IMO amended regulation 1 of SOLAS Chapter VI to add the following to the first sentence, “Except as otherwise provided, t” and struck the “T”, so that the text reads, “Except as otherwise provided, this * * * .” Additionally, regulation 5-1, as amended, continues to read as set forth above. The effect of this action is to harmonize Regulation 1 with the amended Regulation 5-1. The effective date of both regulations is January 1, 2011.

When accepted in accordance with the Convention Article VIII, the amendments to SOLAS chapter VI will enter into force on January 1, 2011. Accordingly, beginning January 1, 2011, State parties to SOLAS can be expected to verify that ships subject to SOLAS have been provided with MSDSs, as required. After that date, all U.S. flagged SOLAS vessels traveling overseas should expect foreign Administrations to ask for MSDSs for each Annex I cargo and marine oil fuel on board. Also, after January 1, 2011, all U.S. and foreign flagged SOLAS vessels in U.S. ports should anticipate that the Coast Guard will ask for MSDSs, as part of its domestic and foreign vessel compliance activities and in fulfillment of the United States' duties as a party to the SOLAS convention.

Because the IMO only recently adopted the recommended format and content for MSDSs, the Coast Guard will provide a future notice containing detailed enforcement guidance, including MSDS guidance for vessels involved in lightering operations. For now, the Coast Guard recommends that MSDSs provided to a ship follow the recommended IMO content and format contained below. The Coast Guard anticipates that these MSDSs will be provided by the oil terminal or bunker supplier, unless otherwise arranged by the cargo/bunker supplier and the ship interests. It is further expected that ship-board personnel will have access to these MSDSs in a working language or languages understood by them. Additionally, occupational exposure limits referenced in an MSDS should be based on internationally recognized standards.

Although the SOLAS requirements for MSDSs do not apply to vessels not subject to SOLAS, such as unmanned inland barges, other regulations, such as 46 CFR 197.565, may require MSDSs to be on board.

In most cases, as a matter of good safety practice, vessels will already have MSDSs for all cargoes and these MSDSs usually will contain the recommended information. An MSDS may contain more information than the IMO recommends. In some cases, certain recommended data may not apply to the bulk liquid in question (data not applicable should be so noted); however, since some IMO member States may require all of the recommended information, it may be a good idea to include all recommended data.

Coast Guard Recommendation as to Layout and Content of MSDSs

Effective July 1, 2009, the IMO adopted the “Recommendation for Material Safety Data Sheets for MARPOL Annex I Cargoes and Marine Fuel Oils.” The Coast Guard supports and encourages this recommendation in its entirety. Accordingly, the Coast Guard encourages industry to apply the following recommendations for the layout and content of an MSDS.

Recommendations for Material Safety Data Sheets (MSDSs) for Marine Use Suitable To Meet the Particular Needs of the Marine Industry Containing Safety, Handling, and Environmental Information To Be Supplied to a Ship Prior to the Loading of MARPOL Annex I Type Oil as Cargo in Bulk and the Bunkering of Oil Fuel
Section | Heading | Content
1 | Identification of the substance or mixture and of the supplier | Name of the category—see Guidelines following this table for MARPOL Annex I type oil cargoes and oil fuels.
|  | The name of the substances. Trade name of the substances.
|  | Description on Bill of Lading (B/L), Bunker Delivery Note or other shipping document.
|  | Other means of identification.
|  | Supplier's details (including name, address, telephone number, etc.).
|  | Emergency telephone number.
2 | Hazards identification | GHS ¹ classification of the substance/mixture and any regional information.
|  | Other hazards which do not result in classification (e.g., hydrogen sulfide) or are not covered by the GHS.
|  | See Guidelines following this table.
3 | Composition/information on ingredients | Common name, synonyms, etc. Impurities and stabilizing additives which are themselves classified and which contribute to the classification of the substances.
|  | The chemical identity and concentration or concentration ranges of all ingredients which are hazardous within the meaning of GHS and are present above their cut-off levels. Cut-off level for reproductive toxicity, carcinogenicity and category 1 mutagenicity is 0.1%. Cut-off level for all other hazard classes is 1%.
|  | See Guidelines following this table.
4 | First aid measures | Description of necessary measures, subdivided according to the different routes of exposure, i.e., inhalation, skin and eye contact and ingestion.
|  | Most important symptoms/effects, acute and delayed.
|  | Indication of immediate medical attention and special treatment, if necessary.
5 | Fire-fighting measures | Suitable extinguishing media.
|  | Specific hazards arising from the chemical (e.g., nature of any hazardous combustion products).
|  | Special protective equipment and precautions for fire-fighters.
6 | Accidental release measures | Personal precautions, protective equipment and emergency procedures.
|  | Environmental precautions.
|  | Methods and materials for containment and clean-up.
7 | Handling and storage | Precautions for safe handling.
|  | Conditions for safe storage, including any incompatibilities.
8 | Exposure controls/personal protection | Control parameters (e.g., occupational exposure limit values).
|  | Appropriate technical precautions.
|  | Individual protection measures, such as personal protective equipment.
9 | Physical and chemical properties | See Guidelines following this table.
10 | Stability and reactivity | Chemical stability. Possibility of hazardous reactions.
|  | Conditions to avoid (e.g., static discharge).
11 | Toxicological information | Concise but complete and comprehensible description of the various toxicological (health) effects and the available data used to identify those effects, including:
|  | Information on the likely routes of exposure (inhalation, ingestion, skin and eye contact);
|  | Symptoms related to the physical, chemical and toxicological characteristics;
|  | Delayed and immediate effects and also chronic effects from short- and long-term exposure.
|  | Numerical measures of toxicity (such as acute toxicity estimates).
|  | See Guidelines following this table.
12 | Ecological information | Ecotoxicity (aquatic and terrestrial, where available).
|  | Persistence and degradability.
|  | Bioaccumulation potential.
|  | Mobility in soil.
|  | Other adverse effects.
|  | See Guidelines following this table.
13 | Disposal considerations | Description of waste residues and information on their safe handling and methods of disposal, in line with MARPOL requirements.
14 | Transport information | UN number, where applicable.
|  | UN Proper shipping name, where applicable.
|  | Transport Hazard class(es), where applicable.
|  | Special precautions which a user needs to be aware of or needs to comply with in connection with transport (e.g., heating and carriage temperatures).
|  | Note that this product is being carried under the scope of MARPOL Annex I.
15 | Regulatory information | Safety, health and environmental regulations specific for the product in question.
16 | Other information including information on preparation and revision of the MSDS | Version No. Date of issue. Issuing source.
¹ Globally Harmonized System of Classification and Labelling of Chemicals (GHS), United Nations (2007 edition, as revised).

Guidelines for the Completion of MSDSs for MARPOL Annex I Type Oil as Cargo in Bulk and Oil Fuel

1. Categories of Liquids

The following categories subdivide the full scope of substances covered by Annex I of MARPOL 73/78 and set in groups specific products for general identification purposes.

1.1 crude oils;

1.2 fuel and residual oils, including ship's bunkers;

1.3 unfinished distillates, hydraulic oils and lubricating oils;

1.4 gas oils, including ship's bunkers;

1.5 kerosenes;

1.6 naphthas and condensates;

1.7 gasoline blending stocks;

1.8 gasoline and spirits; and

1.9 asphalt solutions.

2. Properties and Information

In addition to properties and information specified in the above table containing the recommended MSDS format, the following properties and information should be reported:

2.1 for the following provide appropriate hazards identification in section 2, composition/information on ingredients in section 3, and toxicological information in section 11 of the MSDS:

2.1.1 Benzene—if present ≥0.1% by weight (even if naturally occurring ingredient of the material);

2.1.2 Hydrogen sulfide—if present at any concentration, in liquid and vapor phases, or if possible to accumulate in a tank's vapor space; and

2.1.3 Total Sulfur—if present ≥0.5% by weight, identify in section 3 and warn of potential for hydrogen sulfide evolution in sections 2 and 11;

2.2 for physical and chemical properties in section 9 of the MSDS:

2.2.1 appearance (physical state, color, etc.);

2.2.2 odor;

2.2.3 pour point;

2.2.4 boiling range;

2.2.5 flash point;

2.2.6 upper/lower flammability or explosive limits;

2.2.7 vapor pressure (Reid vapor pressure (RVP) when appropriate);

2.2.8 vapor density;

2.2.9 density;

2.2.10 auto-ignition temperature; and

2.2.11 kinematic viscosity; and

2.3 for ecological information in section 12 of the MSDS: Persistent or non-persistent oil as per the International Oil Pollution Compensation (IOPC) Fund definition.

This notice is issued under the authority of 33 U.S.C. 1231, 1321(j), and 1903(b).

Dated: June 24, 2009.
Jeffrey G. Lantz,
Director of Commercial Regulations and Standards, U.S. Coast Guard.

[FR Doc. E9-15337 Filed 6-24-09; 4:15 pm]

BILLING CODE 4910-15-P